ENVIRONMENTAL PROTECTION AGENCY

[EPA-HQ-OAR-2003-0078; FRL-9983-34-OAR]

Proposed Information Collection Request; Comment Request; Landfill Methane Outreach Program (Renewal)

AGENCY: Environmental Protection Agency (EPA).

ACTION: Notice.

SUMMARY: The Environmental Protection Agency is planning to submit an information collection request (ICR), “Landfill Methane Outreach Program” (EPA ICR No. 1849.08, OMB Control No. 2060-0446) to the Office of Management and Budget (OMB) for review and approval in accordance with the Paperwork Reduction Act (44 U.S.C. 3501 et seq.). Before doing so, EPA is soliciting public comments on specific aspects of the proposed information collection as described below. This is a proposed extension of the ICR, which is currently approved through May 31, 2019. An Agency may not conduct or sponsor and a person is not required to respond to a collection of information unless it displays a currently valid OMB control number.

DATES: Comments must be submitted on or before November 5, 2018.

ADDRESSES: Submit your comments, referencing Docket ID No. EPA-HQ-OAR-2003-0078, online using www.regulations.gov (our preferred method), by email to a-and-r-Docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Lauren Aepli, Climate Change Division, Office of Atmospheric Programs, (6207A), Environmental Protection Agency, 1200 Pennsylvania Ave. NW, Washington, DC 20460; telephone number: (202) 343-9423; fax number: (202) 343-2342; email address: aepli.lauren@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The Landfill Methane Outreach Program (LMOP), created by EPA as part of the United States' commitment to reduce greenhouse gas emissions under the United Nations Framework Convention on Climate Change, is a voluntary program designed to encourage and facilitate the development of environmentally and economically sound landfill gas (LFG) energy projects across the United States to reduce methane emissions from landfills. LMOP meets these objectives by educating local governments and communities about the benefits of LFG recovery and use; building partnerships between state agencies, industry, energy service providers, local communities, and other stakeholders interested in developing this valuable resource in their community; and providing tools to evaluate LFG energy potential. LMOP signed voluntary Memoranda of Understanding (MOUs) with these organizations to enlist their support in promoting cost-effective LFG utilization. The information collection includes completion and submission of the MOU, periodic information updates, and annual completion and submission of basic information on landfill methane projects with which the organizations are involved as an effort to update the LMOP Landfill and Landfill Gas Energy Project Database. The information collection is to be utilized to maintain up-to-date data and information about LMOP Partners and LFG energy projects with which they are involved. The data will also be used by the public to access LFG energy project development opportunities in the United States. In addition, the information collection will assist LMOP in evaluating the reduction of methane emissions from landfills.

Form numbers: 5900-157, 5900-158, 5900-159, 5900-160, 5900-161, and 5900-162.

Respondents/affected entities: Private companies and municipalities that own or operate landfills; manufacturers and suppliers of equipment/knowledge to capture and utilize LFG; utility companies; end-users of energy from landfills; developers of LFG energy projects; State agencies; and other LFG energy stakeholders.

Respondent's obligation to respond: Voluntary.

Estimated number of respondents: 1,137 (total).

Frequency of response: On occasion.

Total estimated burden: 2,270 hours (per year). Burden is defined at 5 CFR 1320.03(b).

Total estimated cost: $194,890 (per year), includes $0 annualized capital or operation & maintenance costs.

Changes in estimates: There is a decrease of 252 hours in the total estimated respondent burden compared with the ICR currently approved by OMB. This decrease is due to transition to an electronic collection of updates to landfill methane projects with which the organizations are involved.

Dated: August 29, 2018.
Paul M. Gunning,
Director, Climate Change Division.

[FR Doc. 2018-19260 Filed 9-4-18; 8:45 am]

BILLING CODE 6560-50-P